FEDERAL MARITIME COMMISSION

Notice of Agreement Filed

The Commission hereby gives notice of the filing of the following agreement under the Shipping Act of 1984. Interested parties may submit comments on the agreement to the Secretary, Federal Maritime Commission, Washington, DC 20573, within twelve days of the date this notice appears in the Federal Register. A copy of the agreement is available through the Commission's Web site (www.fmc.gov) or by contacting the Office of Agreements at (202)-523-5793 or tradeanalysis@fmc.gov.

Agreement No.: 012443.

Title: Hyundai Glovis/Sallaum Cooperative Working Agreement.

Parties: Hyundai Glovis Co. Ltd. and Sallaum Lines DMCC.

Filing Party: Wayne R. Rohde, Esq.; Cozen O'Conner; 1200 Nineteenth Street NW; Washington, DC 20036.

Synopsis: The Agreement authorizes the parties to charter space to/from one another and coordinate the sailings of their ro-ro vessels in the trade from the Atlantic and Gulf Coasts of the United States to ports in West and South Africa. The Parties request expedited review.

By Order of the Federal Maritime Commission.
Dated: November 22, 2016.
Rachel E. Dickon,
Assistant Secretary.

[FR Doc. 2016-28629 Filed 11-28-16; 8:45 am]

BILLING CODE 6731-AA-P